DEPARTMENT OF ENERGY

Reimbursement for Costs of Remedial Action at Active Uranium and Thorium Processing Sites

AGENCY: Department of Energy.

ACTION: Notice of the acceptance of Title X claims during fiscal year (FY) 2012.

SUMMARY: This Notice announces the Department of Energy's (DOE) acceptance of claims in FY 2012 from eligible active uranium and thorium processing site licensees for reimbursement under Title X of the Energy Policy Act of 1992. In FY 2009, Congress appropriated $70 million for Title X in the American Recovery and Reinvestment Act of 2009 (Recovery Act). Also in FY 2009, Congress provided $10 million for Title X through the normal appropriation process. As of the end of FY 2011, there are approximately $15.0 million of Recovery Act funds available for reimbursement in FY 2012. Of the $10 million provided by the FY 2009 appropriation, $9.9 million of unobligated balances was rescinded by the Department of Defense and Full Year Continuing Appropriations Act (Pub. L. 112-10); and the remaining $100,000 had been obligated for Title X audit support. No funds were appropriated for Title X in FY 2012. All of the remaining Recovery Act funds will be reimbursed to licensees in early calendar year 2012 following the review of claims received by June 3, 2011. Since the available Recovery Act funds are less than the total estimated amounts eligible for reimbursement (approximately $23 million), the reimbursements to licensees will be paid on a prorated basis.

DATES: The closing date for the submission of claims in FY 2012 is April 30, 2012. These new claims will be processed for payment by April 30, 2013, together with any eligible unpaid approved claim balances from prior years, based on the availability of funds from congressional appropriations. If the total of approved claim amounts exceeds the available funding, the approved claim amounts will be reimbursed on a prorated basis. All reimbursements are subject to the availability of funds from congressional appropriations.

ADDRESSES: Claims should be forwarded by certified or registered mail, return receipt requested, to U.S. Department of Energy, Office of Legacy Management, Attn: Title X Coordinator, 2597 Legacy Way, Grand Junction, Colorado 81503. Two copies of the claim should be included with each submission.

FOR FURTHER INFORMATION CONTACT: Contact David Mathes at (301) 903-7222 of the U.S. Department of Energy, Office of Environmental Management, Office of Disposal Operations.

SUPPLEMENTARY INFORMATION: DOE published a final rule under 10 CFR Part 765 in the Federal Register on May 23, 1994, (59 FR 26714) to carry out the requirements of Title X of the Energy Policy Act of 1992 (sections 1001-1004 of Public Law 102-486, 42 U.S.C. 2296a et seq.) and to establish the procedures for eligible licensees to submit claims for reimbursement. DOE amended the final rule on June 3, 2003, (68 FR 32955) to adopt several technical and administrative amendments (e.g., statutory increases in the reimbursement ceilings). Title X requires DOE to reimburse eligible uranium and thorium licensees for certain costs of decontamination, decommissioning, reclamation, and other remedial action incurred by licensees at active uranium and thorium processing sites to remediate byproduct material generated as an incident of sales to the United States Government. To be reimbursable, costs of remedial action must be for work which is necessary to comply with applicable requirements of the Uranium Mill Tailings Radiation Control Act of 1978 (42 U.S.C. 7901 et seq.) or, where appropriate, with requirements established by a State pursuant to a discontinuance agreement under section 274 of the Atomic Energy Act of 1954 (42 U.S.C. 2021). Claims for reimbursement must be supported by reasonable documentation as determined by DOE in accordance with 10 CFR part 765. Funds for reimbursement will be provided from the Uranium Enrichment Decontamination and Decommissioning Fund established at the Department of Treasury pursuant to section 1801 of the Atomic Energy Act of 1954 (42 U.S.C. 2297g). Payment or obligation of funds shall be subject to the requirements of the Anti-Deficiency Act (31 U.S.C. 1341).

Authority: Section 1001-1004 of Pub. L. 102-486, 106 Stat. 2776 (42 U.S.C. 2296a et seq.).

Issued in Washington, DC, on this 17th of January 2012.
David E. Mathes,
Office of Disposal Operations, Office of Technical and Regulatory Support.

[FR Doc. 2012-1352 Filed 1-23-12; 8:45 am]

BILLING CODE 6450-01-P